DEPARTMENT OF TRANSPORTATION

Federal Aviation Administration

Notice of Passenger Facility Charge (PFC) Approvals and Disapprovals

AGENCY: Federal Aviation Administration (FAA), DOT.

ACTION: Monthly Notice of PFC Approvals and Disapprovals. In August 2007, there were three applications approved. This notice also includes information on one application, approved in July 2007, inadvertently left off the July 2007 notice. Additionally, 23 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph (d) of § 158.29.

PFC Applications Approved

Public Agency: Broward County Aviation Department, Fort Lauderdale, Florida.

Application Number: 07-08-C-00-FLL.

Application Type: Impose and use a PFC.

PFC Level: $4.50.

Total PFC Revenue Approved in This Decision: $72,409,477.

Earliest Charge Effective Date: September 1, 2013.

Estimated Charge Expiration Date: October 1, 2014.

Class of Air Carriers Not Required To Collect PFCs:

Non-scheduled/on-demand air carriers.

Determination: Approved. Based on information contained in the public agency's application, the FAA has determined that the proposed class accounts for less than 1 percent of the total annual enplanements at Fort Lauderdale-Hollywood International Airport.

Brief Description of Projects Approved for Collection and Use at a $4.50 PFC Level:

Runway implementation plan.

Reconstruct runway 9L/27R and taxiway B west; install engineered materials arresting system.

Near term in-line baggage handling systems, terminals 1, 2, and 3.

Brief Description of Projects Approved for Collection and Use at a $3.00 PFC Level:

Terminal roof replacement ( Terminals 2, 3, and 4).

Airport information management system.

Flight information display systems replacements for Terminals 1, 2, and 3.

Decision Date: July 31, 2007.

For Further Information Contact: Susan Moore, Orlando Airports District Office, (407) 812-6331.

Public Agency: Santa Maria Public Airport District, Santa Maria, California.

Application Number: 07-01-C-00-SMX.

Application Type: Impose and use a PFC.

Total PFC Revenue Approved in this Decision: $5,380,346.

PFC Level: $4.50.

Earliest Charge Effective Date: October 1, 2007.

Estimated Charge Expiration Date: October 1, 2028.

Class of Air Carriers Not Required To Collect PFC's:

Non-scheduled on-demand air carriers filing FAA Form 1800-31.

Determination: Approved. Based on information contained in the public agency's application, the FAA has determined that the proposed class accounts for less than 1 percent of the total annual enplanements at Santa Maria Public/G. Allan Hancock Field Airport.

Brief Description of Projects Approved for Collection and Use:

Terminal building design and construction (expansion of baggage claim area and passenger hold room).

Environmental assessment for runway extension

Decision Date: August 3, 2007.

For Further Information Contact: David Delshad, Los Angeles Airports District Office, (310) 725-3627.

Public Agency: County of Westchester, Mount Vernon, New York.

Application Number: 07-03-U-00-HPN.

Application Type: Use PFC revenue.

PFC Level: $4.50.

Total PFC Revenue to be Used in This Decision: $12,300,000.

Charge Effective Date: January 1, 2004.

Estimated Charge Expiration Date: December 1, 2008.

Class of Air Carriers Not Required To Collect PFC's:

No change from previous decision.

Brief Description of Project Approved for Use:

Reconstruction of terminal ramp/ deicing areas.

Decision Date: August 9, 2007.

For Further Information Contact: Dan Vornea, New York Airports District Office, (516) 227-3812.

Public Agency: County of Buncomb and City of Asheville, Asheville, North Carolina.

Application Number: 07-04-C-00-AVL.

Application Type: Impose and use a PFC.

Total PFC Revenue Approved in This Decision: $3,521,375.

PFC Level: $4.50.

Earliest Charge Effective Date: October 1, 2007.

Estimated Charge Expiration Date: May 1, 2010.

Class of Air Carriers Not Required To Collect PFC's:

Non-scheduled/on-demand air taxi operators.

Determination: Approved. Based on information contained in the public agency's application, the FAA has determined that the proposed class accounts for less than 1 percent of the total annual enplanements at Asheville Regional Airport.

Brief Description of Projects Approved for Collection and Use:

Terminal renovations phase 1—construction.

Regional boarding ramp improvements.

Aircraft lavatory cart facility.

Pre-conditioned air.

Runway 16/34 rehabilitation/reconstruction—design.

Decision Date: August 15, 2007.

For Further Information Contact: John Marshall, Atlanta Airports District Office, (404) 305-7153.

Amendments to PFC Approvals
Amendment No. city, state | Amendment approved date | Original approved net PFC revenue | Amended approved net PFC revenue | Original estimated charge exp. date | Amended estimated charge exp. date
92-01-C-03-AOO | 07/24/07 | $127,054 | $110,500 | 02/01/96 | 02/01/96
Altoona, PA
96-02-C-03-AOO | 07/24/07 | 124,620 | 116,620 | 10/01/99 | 10/01/99
Altoona, PA
96-02-C-04-AOO | 07/24/07 | 116,620 | 116,620 | 10/01/99 | 10/01/99
Altoona, PA
00-03-C-03-AOO | 07/24/07 | 135,340 | 89,950 | 08/01/02 | 08/01/02
Altoona, PA
02-04-U-01-AOO | 07/24/07 | NA | NA | 08/01/02 | 08/01/02
Altoona, PA
95-01-C-03-BFD | 07/27/07 | 288,090 | 206,793 | 05/01/03 | 05/01/03
Bradford, PA
92-01-I-09-PHL | 07/27/07 | 98,863,016 | 98,765,785 | 08/01/95 | 08/01/95
Philadelphia, PA
93-02-U-02-PHL | 07/27/07 | NA | NA | 08/01/95 | 08/01/95
Philadelphia, PA
98-06-C-06-PHL | 07/27/07 | 23,560,410 | 19,534,950 | 10/01/98 | 10/01/98
Philadelphia, PA
94-01-C-02-RDG | 07/27/07 | 480,000 | 392,031 | 07/01/98 | 07/01/98
Reading, PA
97-02-U-01-RDG | 07/27/07 | NA | NA | 07/01/98 | 07/01/98
Reading, PA
92-01-I-04-RFD | 07/30/07 | 410,286 | 385,681 | 10/01/96 | 10/01/96
Rockford, IL
93-02-U-02-RFD | 07/30/07 | NA | NA | 10/01/96 | 10/01/96
Rockford, IL
93-01-C-02-JST | 07/30/07 | 150,202 | 148,269 | 12/01/96 | 12/01/96
Johnstown, PA
96-02-C-01-JST | 07/30/07 | 14,250 | 14,106 | 12/01/96 | 12/01/96
Johnstown, PA
95-03-C-05-PHL | 07/30/07 | 9,994,274 | 9,994,273 | 03/01/97 | 03/01/97
Philadelphia, PA
03-06-C-02-DSM | 07/31/07 | 11,060,000 | 11,700,000 | 04/01/08 | 04/01/08
Des Moines, IA
05-08-C-01-DSM | 07/31/07 | 2,750,000 | 2,250,000 | 01/01/12 | 01/01/12
Des Moines, IA
92-01-C-06-HPN | 08/03/07 | 17,252,918 | 15,546,537 | 05/01/04 | 05/01/04
White Plains, NY
01-08-C-02-PDX | 08/08/07 | 551,129,000 | 551,230,600 | 05/01/16 | 05/01/16
Portland, OR
06-08-C-01-ATL | 08/14/07 | 177,974,163 | 227,606,163 | 08/01/19 | 01/01/20
Atlanta, GA
02-06-C-05-MSY | 08/14/07 | 252,936,769 | 255,936,769 | 01/01/16 | 09/01/16
New Orleans, LA
01-07-C-01-RHI | 08/15/07 | 34,405 | 36,348 | 01/01/05 | 01/01/05
Rhinelander, WI

Issued in Washington, DC, on October 18, 2007.
Joe Hebert,
Manager, Financial Analysis and Passenger Facility Charge Branch.

[FR Doc. 07-5261 Filed 10-24-07; 8:45 am]

BILLING CODE 4910-13-M